DEPARTMENT OF COMMERCE

International Trade Administration

Security Mission for Economic Prosperity in Central America; Correction

AGENCY: Department of Commerce.

ACTION: Notice; correction.

SUMMARY: The United States Department of Commerce, International Trade Administration, published a document in the Federal Register of April 10, 2020, concerning the Security Mission for Economic Prosperity in El Salvador, Guatemala, and Honduras, scheduled from October 25-30, 2020. The document contained an incorrect deadline for submitting applications and incorrect dates for the event.

FOR FURTHER INFORMATION CONTACT: April Redmon, U.S. Commercial Service, U.S. Department of Commerce, Tel: 703-235-0103, Email: April.redmon@trade.gov.

SUPPLEMENTARY INFORMATION:

Correction

In the Federal Register of April 10, 2020, in FR Doc. 2020-07544, on page 20243, in the third column, correct the “Background” caption to read:

Due to recent developments in the region, it has been determined that to allow for optimal execution of recruitment and event scheduling for the mission, the dates of the mission are modified from October 25-30, 2020 to March 7-12, 2021. As a result of the shift of the event dates the date of the application deadline is also revised from August 14, 2020 to January 8, 2021 (and after that date if space remains and scheduling constraints permit). Interested U.S. companies and trade associations/organizations that have not already applied are encouraged to do so. The U.S. Department of Commerce will review applications and make selection decisions on a rolling basis in accordance with the original Notice published at 85 FR 12259 (March 2, 2020). The applicants selected will be notified as soon as possible. The proposed schedule is updated as follows *:

Proposed Timetable

Sunday, March 7

Arrive in San Salvador, El Salvador

Ice breaker reception for companies and core team members

Monday, March 8

Regional SCO will kick off Regional Security Strategies for Economic Prosperity conference to which the mission participants will attend and learn about regional priorities, policy and regulatory changes, and projects throughout the region.

Reception in the evening at the Chief of Mission's residence for companies, government officials, and local private sector guests.

Tuesday, March 9

One-on-one business matchmaking appointments in El Salvador

Wednesday, March 10

Arrival in Guatemala or Honduras for matchmaking and other networking

Friday, March 12

End of Mission

* Note: The final schedule of meetings, events, and site visits will depend on the availability of host government and business officials, specific goals of mission participants, flight availability and ground transportation options.

Dated: September 18, 2020.
Gemal Brangman,
Senior Advisor, Trade Missions, ITA Events Management Task Force.

[FR Doc. 2020-21239 Filed 9-24-20; 8:45 am]

BILLING CODE 3510-DR-P